DEPARTMENT OF THE INTERIOR

Fish and Wildlife Service

[FWS-R2-R-2011-N114; 1261-0000-29154-4A]

Hunt Fee at Caddo Lake National Wildlife Refuge, TX

AGENCY: Fish and Wildlife Service, Interior.

ACTION: Notice of Intent to Implement a Hunt Fee.

SUMMARY: We, the U.S. Fish and Wildlife Service (Service), announce our intent to implement a hunt fee at Caddo Lake National Wildlife Refuge (Refuge), located in Texas, as authorized by Federal Lands Recreation Enhancement Act (REA). The Refuge's proposed fee is $12.50 for lottery deer and feral hog hunt. Under REA provisions, the Refuge will identify and post the specific fee.

DATES: Submit your comments on this action by August 19, 2011. Unless we publish a notice in the Federal Register withdrawing this action, we will implement the hunt fee on January 16, 2012 at the Refuge.

ADDRESSES: Submit your comments by one of the following methods:

• By U.S. mail to: U.S. Fish and Wildlife Service, Attn: Visitor Services, 500 Gold Ave., SW., Room 4504, Albuquerque, NM 87102.

• By fax to: (505) 248-6621.

• By e-mail to: Ken_Garrahan@fws.gov.

FOR FURTHER INFORMATION CONTACT: Ken Garrahan, at (505) 248-6635.

SUPPLEMENTARY INFORMATION: The Texas Parks and Wildlife Department (TPWD) is the regulatory agency for wildlife in Texas. To monitor deer population dynamics throughout the state, TPWD has identified 33 unique Resource Management Units (RMUs) having similar soils, vegetation types and land use practices. TPWD collects, compiles, and analyzes deer population data from identified RMUs and associated ecoregions throughout the state and adjusts deer hunting regulations accordingly.

Caddo Lake NWR is within RMU 16 where deer densities increased from 8.7 to 15.1 deer per 1,000 acres and recruitment decreased almost 50 percent from 2005 to 2008. The Refuge has worked in cooperation with TPWD biologists and staff to monitor the deer herd on Caddo Lake NWR.

In 2008 and 2009, Refuge and TPWD staff conducted spotlight surveys, browse surveys, forest understory evaluations and review of historic and ongoing Army deer hunt data (prior to 2004, the land was under the jurisdiction of the United States Army, Department of Defense). The data indicate that the Refuge deer herd is at/near carrying capacity (K) levels, or that it exceeds K levels in certain areas of the Refuge. During this 2-year period, deer density on the refuge has increased from 34.3 to 58.9 deer per 1,000 acres. Estimated doe per buck ratio also increased from 2:1 to 3:1, while recruitment remained low, at near 0.15 fawns per doe. Accordingly, the proposed limited deer hunt will reduce the number of deer to obtain a more healthy and sustainable population on the Refuge.

Feral hogs are an extremely invasive exotic species that is not considered a game species by the State of Texas. Texas is home to an estimated 2 million feral hogs. This is due in part to intentional releases, suitable habitat, disease eradication, limited natural predators, and high reproductive potential. There are very few inhibiting factors to curtail this population growth. The hunting of feral hogs has become a popular sport in the State, and the public interest would best be served by allowing this activity on the refuge. The damaging effects of feral hogs were present prior to the establishment of the refuge, and their numbers and damaging effects on the habitat and native wildlife species will continue to increase without a control mechanism. If a control mechanism (i.e. hunting or trapping) is not established and implemented, feral hogs will degrade the refuge habitat and have a negative impact on native wildlife species.

We announce our intent to implement a $12.50 hunt fee for a lottery deer and feral hog hunt at the Refuge under 16 U.S.C. 6802(g) of the REA. The Refuge plans to use collected fees to defray costs associated with a hunting program on the Refuge. Fees garnered through this program will be used to offset expenses in operating the hunt, including providing refuge hunt permits/brochures, boundary line/hunt area signage, maintenance of overtime by law enforcement officers, employee salaries dedicated to the administration of the hunts, and for expansion and improvement of parking areas, and improved accessibility for mobility impaired hunters. It is our policy to only allow activities that are appropriate and compatible with the Refuge's purposes.

Public Availability of Comments

Before including your address, phone number, e-mail address, or other personal identifying information in your comment, you should be aware that your entire comment—including your personal identifying information—may be made publicly available at any time. While you can ask us in your comment to withhold your personal identifying information from public review, we cannot guarantee that we will be able to do so.

Authorities and Requirements of the REA

In December 2004, the REA became law (16 U.S.C. 6801-6814). The REA provides authority through December 2014 for the Secretaries of the Departments of the Interior and Agriculture to establish, modify, charge, and collect recreation fees for use at some Federal recreation lands and waters, and contains specific provisions addressing public involvement in the establishment of recreation fees. The REA also directed the Secretaries of the Departments of the Interior and Agriculture to publish advance notice in the Federal Register whenever bureaus establish new recreation fee areas under their respective jurisdictions.

Should public comments provide substantive reasons why we should not implement a hunt fee at the Refuge, we may reevaluate our plan and publish a subsequent notice in the Federal Register withdrawing this action. Otherwise, we will implement a hunt fee at the Caddo Lake Refuge on the date specified in the DATES section of this document, and the Refuge will post fee amounts and expenditures onsite.

Authority: 16 U.S.C. 6801-6814.

Dated: April 27, 2011.
Joy E. Nicholopoulos,
Acting Regional Director, Region 2.

[FR Doc. 2011-18199 Filed 7-19-11; 8:45 am]

BILLING CODE 4310-55-P